DEPARTMENT OF ENERGY

Federal Energy Regulatory Commission

[Docket No. ER00-2921-000, et al.]

JPower, Inc., et al.; Electric Rate and Corporate Regulation Filings

June 27, 2000.

Take notice that the following filings have been made with the Commission:

1. JPower, Inc.

[Docket No. ER00-2921-000]

Take notice that on June 13, 2000, JPower, Inc., tendered for filing notice of change in status. JPower requests that the name JPower and JPower's market based rate schedule under ER95-1421-000 be transferred to Great Lakes Energy Trading, LLC effective immediately.

Comment date: July 7, 2000, in accordance with Standard Paragraph E at the end of this notice.

2. Quark Power L.L.C.

[Docket No. ER97-2374-012]

Take notice that on June 21, 2000, Quark Power Service Company (Quark Power), tendered for filing an updated market analysis as required by the Commission's June 6, 1997 order in Docket No. ER97-2374-000 granting Quark Power market-based rate authority.

Comment date: July 12, 2000, in accordance with Standard Paragraph E at the end of this notice.

3. Pacific Gas and Electric Company

[Docket No. ER00-2783-001]

Take notice that on June 21, 2000, Pacific Gas and Electric Company (the Company), tendered for filing an amendment in FERC Docket No. ER00-2783-000. The Company requests an extension of the termination date of the Interim Short Term Coordination Agreement, as amended, between Pacific Gas and Electric Company and Sacramento Municipal Utility District (SMUD), dated July 28, 1998, Company Rate Schedule FERC No. 201.

Copies of this filing have been served upon SMUD, the California Independent System Operator Corporation and the California Public Utilities Commission.

Comment date: July 12, 2000, in accordance with Standard Paragraph E at the end of this notice.

4. Golden Spread Electric Cooperative, Inc.

[Docket No. ER00-2919-000]

Take notice that on June 21, 2000, Golden Spread Electric Cooperative, Inc., tendered for filing an unexecuted service agreement between Golden Spread and Public Service Company of New Mexico under Golden Spread's FERC Electric Tariff, Original Volume No. 1 (Market-Based Rate Tariff).

Golden Spread request an effective date of May 22, 2000, for the service agreement.

Comment date: July 12, 2000, in accordance with Standard Paragraph E at the end of this notice.

5. Oklahoma Gas and Electric Company

[Docket No. ER00-2915-000]

Take notice that on June 21, 2000, Oklahoma Gas and Electric Company (OG&E), tendered for filing a letter stating that it is adopting the NERC revisions to its TLR procedures approved by the Commission on May 8, 2000 in Docket No. ER00-1666-000, and therefore OG&E' FERC Electric Tariff shall be considered so modified to reflect the revisions described in the Commission order.

A copy of this letter has been served upon the Oklahoma Corporation Commission and the Arkansas Public Service Commission.

Comment date: July 12, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-17165 Filed 7-6-00; 8:45 am]

BILLING CODE 6717-01-P